ENVIRONMENTAL PROTECTION AGENCY

[FRL-9978-74—Region 4]

Public Water System Supervision Program Revision for the Commonwealth of Kentucky

AGENCY: Environmental Protection Agency (EPA).

ACTION: Notification of tentative approval.

SUMMARY: Notice is hereby given that the Commonwealth of Kentucky is revising its approved Public Water System Supervision Program. Kentucky has revised its drinking water regulation defining a public water system. EPA has determined that Kentucky's regulation is no less stringent than the corresponding federal regulation. Therefore, EPA is tentatively approving this revision to the Commonwealth of Kentucky's Public Water System Supervision Program.

DATES: Any interested person may request a public hearing. A request for a public hearing must be submitted by July 2, 2018, to the Regional Administrator at the EPA Region 4 street address shown below. The Regional Administrator may deny frivolous or insubstantial requests for a hearing. However, if a substantial request for a public hearing is made by July 2, 2018, a public hearing will be held. If no timely and appropriate request for a hearing is received and the Regional Administrator does not elect to hold a hearing on his own motion, this determination shall become final and applicable on July 2, 2018. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 9:00 a.m. and 3:00 p.m., Monday through Friday, at the following locations: The 3rd Floor main office of the Division of Water, Kentucky Department for Environmental Protection, 300 Sower Boulevard, Frankfort, Kentucky 40601; and the 9th floor library of the U.S. Environmental Protection Agency, Region 4, 61 Forsyth Street SW, Atlanta, Georgia 30303.

FOR FURTHER INFORMATION CONTACT: Dale Froneberger, EPA Region 4, Drinking Water Section, by mail at the Atlanta street address given above, by telephone at (404) 562-9446, or by email at froneberger.dale@epa.gov.

SUPPLEMENTARY INFORMATION: The Commonwealth of Kentucky has submitted a request that EPA Region 4 approve a revision to the Commonwealth's Safe Drinking Act Public Water System Supervision Program to include changes to the Commonwealth's regulation defining a public water system. Kentucky's amended regulation incorporates the current federal regulation defining a public water system by reference. The Commonwealth's amended regulation was effective September 25, 2009. For the request to be approved, EPA must find the commonwealth definition of a public water system codified at Title 401 KAR 8:010, to be no less stringent than the federal definition of a public water system codified at 40 CFR part 141, subpart A. EPA reviewed the Commonwealth's request using the federal statutory provisions (Section 1413 of the Safe Drinking Water Act), federal regulations (at 40 CFR parts 141 and 142), commonwealth regulations, regulatory crosswalk, and EPA regulatory guidance to determine whether the request for revision is approvable. EPA determined that the Kentucky regulation is no less stringent than the corresponding federal regulation and is tentatively approving this revision. If EPA does not receive a timely and appropriate request for a hearing and the Regional Administrator does not elect to hold a hearing on his own motion, this approval shall become final and effective on July 2, 2018.

Authority: Section 1413 of the Safe Drinking Water Act, as amended (1996), and 40 CFR part 142.

Dated: May 15, 2018.
Onis “Trey” Glenn, III,
Regional Administrator, Region 4.

[FR Doc. 2018-11753 Filed 5-30-18; 8:45 am]

BILLING CODE 6560-50-P